DEPARTMENT OF AGRICULTURE

Commodity Credit Corporation

Farm Service Agency

Conservation Reserve Program

AGENCY: Commodity Credit Corporation, Farm Service Agency, USDA.

ACTION: Record of decision.

SUMMARY: This notice presents a summary of the Record of Decision (ROD) regarding the alternative selected for implementation from the Supplemental Programmatic Environmental Impact Statement (SPEIS) for the Conservation Reserve Program (CRP). CRP is a voluntary program that supports the implementation of long-term conservation measures designed to improve the quality of ground and surface waters, control soil erosion, and enhance wildlife habitat on environmentally sensitive agricultural land. The Farm Service Agency (FSA) administers CRP on behalf of the Commodity Credit Corporation (CCC). The ROD was signed on April 17, 2015, but will not be implemented for at least 30 days following publication of this notice.

DATES: Effective Date: July 20, 2015.

ADDRESSES: The CRP SPEIS, including appendices and this ROD, are available on the FSA Environmental Compliance Web site at: http://www.fsa.usda.gov/FSA/webapp?area=home&subject=ecrc&topic=ep-cd. More detailed information on CRP is available from FSA's Web site at: http://www.fsa.usda.gov/FSA/webapp?area=home&subject=copr&topic=crp.

Requests for copies of the Final SPEIS and this ROD may be obtained from Nell Fuller at Nell.Fuller@wdc.usda.gov, or mail, Nell Fuller, USDA FSA, Mail Stop 0501, 1400 Independence Ave. SW., Washington, DC 20250-0501.

FOR FURTHER INFORMATION CONTACT: Nell Fuller, National Environmental Compliance Manager; phone: (202) 720-6853.

SUPPLEMENTARY INFORMATION:

Background

FSA prepared a Final SPEIS for CRP and a Notice of Availability was published in the Federal Register on December 23, 2014. On behalf of the CCC, FSA provides CRP participants with rental payments and cost-share assistance under contracts that extend from 10 to 15 years. CCC funding for CRP is governed by acreage caps set by the Agricultural Act of 2014, Public Law 113-79 (2014 Farm Bill). Technical support is provided by:

• USDA Natural Resources Conservation Service;

• USDA National Institute for Food and Agriculture;

• U.S. Forest Service;

• State forestry agencies;

• Local soil and water conservation districts; and

• Other non-federal providers of technical assistance.

Producers can enroll in CRP using one of two procedures:

(1) Offer lands for General Sign-up enrollment during specific sign-up periods and compete with other offers nationally, based upon the Environmental Benefits Index; or

(2) Enroll environmentally desirable land to be devoted to certain conservation practices (CPs) under CRP Continuous Sign-up provisions, if certain eligibility requirements are met, or by enrolling eligible land under the Conservation Reserve Enhancement Program (CREP), a federal-state partnership under CRP.

As of September 2014, there were nearly 25.5 million acres enrolled in the CRP: 19.7 million acres under General Sign-up and 5.7 million acres under Continuous Sign-up, including 1.3 million acres in CREP and 0.3 million acres in the Farmable Wetlands Program, a program under CRP.

Under the Proposed Action, as defined in the SPEIS, FSA would implement changes to the CRP resulting from the 2014 Farm Bill, which extends the enrollment authority for the CRP to 2018, as well as other discretionary measures designed to improve the functionality and conservation benefits of CRP. The CRP SPEIS tiers from the CRP Supplemental Environmental Impact Statement and associated ROD completed in 2010. The SPEIS analyzed the impacts associated with implementing the changes to CRP and in developing new regulations. The No Action Alternative (continuation of current CRP to include those non-discretionary changes required by the 2014 Farm Bill) was also analyzed, and provides a management and environmental baseline.

The Decision

After reviewing comments from interested individuals and other State and Federal agencies, FSA decided to implement changes to CRP resulting from the 2014 Farm Bill, which extends the enrollment authority for CRP to 2018, and discretionary measures designed to improve the functionality and conservation benefits of CRP, as well as other changes described in the Proposed Action, with one exception and one clarification. The exception is that authorizing emergency haying or grazing on CP 25, “Rare and Declining Habitat,” during severe drought conditions will not be implemented. This decision was made after comparing the overall environmental impacts and other relevant information, including feedback received, with regard to the reasonable alternatives considered in the CRP SPEIS. The clarification was that FSA intends to use Primary Nesting Season (PNS) provisions that are currently in place to clarify the language provided in the 2014 Farm Bill for birds that are economically significant, in significant decline, or conserved in accordance with Federal or State law (see 16 U.S.C. 3833(b)(5)(B)). FSA will continue to work with the U.S. Fish and Wildlife Service to address any need to amend PNS dates. The following briefly describes the purpose and need for the proposed programmatic changes and the alternatives considered.

Purpose and Need for the Proposed Action

The purpose of the Proposed Action is to implement programmatic changes to the CRP resulting from the 2014 Farm Bill and other discretionary program provisions. The need for the Proposed Action is to fulfill the FSA's responsibility to administer CRP while improving CRP's functionality and maintaining its conservation benefits.

Alternatives Considered

Some elements of the 2014 Farm Bill are non-discretionary, meaning implementation is mandatory and specifically required by the 2014 Farm Bill. As FSA has no decision-making authority over these non-discretionary aspects of the 2014 Farm Bill, they are assessed in the SPEIS as part of the No Action Alternative. Other elements of the 2014 Farm Bill provide overall guidance, but details of implementation are left to FSA's discretion. These discretionary aspects of the 2014 Farm Bill form the Proposed Action Alternative. In addition, as described in the Proposed Action Alternative, FSA proposes to implement additional discretionary measures for targeting enrollment and to expand the flexibility of emergency haying and grazing.

Overview of Changes to CRP From the 2014 Farm Bill

The changes in the 2014 Farm Bill that are administrative in nature, would not result in major changes to the administration of CRP, or have been addressed in other environmental assessments and eliminated from detailed analysis, are described in the first table. A summary of the proposed changes to CRP and how the changes are addressed in the SPEIS as part of the No Action Alternative or Proposed Action Alternative are described in the second table.

List From Detailed Analysis
Provision | Description
Maximum Enrollment | Reduces maximum enrollment gradually from 32 to 24 million acres by fiscal year 2017.
Farmable Wetlands Program | Creates a permanent program from the pilot program established by 2008 Farm Bill and sets enrollment cap at 750,000 acres.
Tree Thinning | Reduces payment authority to $10 million, allows for incentive payments.
Early Termination of Contracts | Provides contract termination opportunity in 2015 for contracts that have been in place for at least 5 years, with exceptions.
Managed Harvesting, Prescribed and Routine Grazing Payment Reduction | Requires rental payment reduction of at least 25 percent. No payment reduction for beginning farmers or ranchers for grazing.
Transition Option | Provides authority for $33 million to facilitate transfer of land from retiring or retired owners to beginning or socially disadvantaged farmers or ranchers, or military veteran farmers or ranchers.
Prescribed Grazing Frequency | Allows annual grazing for control of invasive plants.
Intermittent and Seasonal Use | Allows for intermittent and seasonal use of vegetative buffer practices incidental to agricultural production on adjacent lands.

Proposed Changes to CRP
Provision | Description
No Action Alternative
Grasslands Eligibility and Authorized Activities | Allows up to 2 million acres of certain grasslands to be eligible for CRP under Continuous Sign-up. Authorized activities differ from other CRP contracts.
Final Year Contract | Allows enrollment in Conservation Stewardship Program and the Agricultural Conservation Easement Program during final year of the CRP contract.
Emergency Haying and Grazing Payment Reduction | Removes the requirement to reduce CRP rental payments.
Proposed Action
Targeted Enrollment | Proposes the targeted enrollment of environmentally sensitive lands through reverse auctions or competitive bidding to meet reduced enrollment caps.
Managed harvesting Frequency | Sets minimum frequency of once in 5 years, and maximum frequency of once in 3 years.
Routine Grazing Frequency | Sets maximum frequency to no more than once every 2 years.
Emergency Haying and Grazing on Additional Conservation Practices | Allows emergency haying and grazing on additional CPs during severe drought conditions to include CP8 (grass waterways), CP21 (filter strips), CP22 (riparian buffers), CP23 (wetland restoration), CP23A (wetland restoration, non-floodplain), CP27 (farmable wetlands), CP28 (farmable wetland buffers), CP37 (duck nesting habitat), CP39 (constructed wetland), and CP41 (Flooded prairie farmable wetlands).

Public Involvement

Public involvement began with the notice announcing a “Notice of Intent to Prepare a Programmatic Supplemental Environmental Impact Statement for the Conservation Reserve Program: Request for Comments” published in the Federal Register on November 29, 2013 (78 FR 71561-71562). A Web site developed to compile comments for the project was activated on the day the Notice of Intent was released and the official scoping comment period began. Comments were received through the project Web site, email system, mail, fax, and at www.regulations.gov. The scoping period ended January 13, 2014. Eight comment letters were received during the scoping period from Federal, state, and local government agencies, as well as from private organizations and members of the concerned public. The comments could be broken into 55 individual issues covering a range of topics including proposed 2008 Farm Bill changes, CRP maximum enrollment and acreages, regional differences in haying and grazing impacts, lack of thorough environmental and socioeconomic impact analysis in previous environmental analysis documentation related to the Farm Bill, and CRP funding policy. The comments provided during the scoping period were considered in defining the alternatives and the environmental consequences to ensure feedback was adequately addressed.

A notice announcing the availability of the Draft SPEIS was published in the Federal Register on July 15, 2014 (79 FR 41247-41249). This notice of availability (NOA) provided a summary of the changes to CRP, the No Action Alternative, and the Proposed Action Alternative. Also included in the NOA was a description of how to provide comments, as well as a list of the dates, times, and locations of the five public meetings that were held as a part of the public involvement process. Locations for holding public meetings were chosen based upon FSA density analyses of participation in CRP or those participants potentially impacted by the proposed changes to CRP. The meeting locations, dates, and times are shown in the table below.

Date | Time | Location information
July 21, 2014 | 6:00 p.m.-8:00 p.m | Hilton Garden Inn, Spokane Airport, 9015 West SR Highway 2, Spokane, Washington 99224.
July 22, 2014 | 6:00 p.m.-8:00 p.m | Holiday Inn, Great Falls, 1100 5th Street, South Falls, Montana 59405.
August 4, 2014 | 6:00 p.m.-8:00 p.m | Plains Cotton Cooperative Association, 3301 East 50th Street, Lubbock, Texas 79404.
August 5, 2014 | 6:00 p.m.-8:00 p.m | Stillwater Library, 1107 S. Duck Street, Stillwater, Oklahoma 74074.
August 6, 2014 | 6:00 p.m.-8:00 p.m | Courtyard by Marriott and Moorhead Area Conference Center, 1080 28th Avenue, South, Moorhead, Minnesota 56560.

Eighteen comments were received during the Draft SPEIS comment period. Those 18 comments included 75 issues to be considered in the Final SPEIS. A Comment Summary Report was prepared and is included as an appendix in the CRP SPEIS. The report provides additional detail on the Draft SPEIS comment process, a copy of the NOA, copies of all public meeting materials, and responses to all 75 substantive issues and how they were addressed in the Final SPEIS.

The NOA of the Final SPEIS was published in the Federal Register on December 23, 2014 (79 FR 76952). A total of six comment letters or emails were received during the 30 day comment period. The comments could be broken down to 12 individual comments. The comments were primarily repetitive of concerns addressed during the Draft SPEIS and included grassland eligibility requirements, targeted enrollment, and emergency haying and grazing of additional CPs. Those comments were considered in the decision-making process.

Impacts Summary

The Final SPEIS evaluates the potential impacts of the Proposed Action. Based upon the analyses and conclusions presented in the Draft and Final SPEISs, FSA has determined that the Proposed Action is environmentally responsible and reasonable to implement, and no significant negative impacts would occur. Anticipated beneficial and adverse impacts are discussed below for each of the elements of the Proposed Action.

Targeted Enrollment

CRP establishes or restores vegetation to meet the CRP goals of improving surface water and groundwater quality, controlling soil erosion, and enhancing wildlife habitat. Enrolling land in CRP would be expected to benefit vegetation, wildlife, and protected species as sensitive lands or those with higher environmental benefits could be targeted. Soils, surface and groundwater, wetlands, and floodplains would benefit similarly and would also be positively impacted by reduced fertilizer and pesticide usage and lower demands on groundwater for irrigation. Recreation related to wildlife would be expected to benefit from targeting environmentally sensitive areas that benefit wildlife and habitats and surface water quality on and adjacent to CRP lands. Air quality would benefit from enrollment in CRP through reduced emissions from equipment, greater soil stability, and increased potential for long-term carbon sequestration as compared to typical agricultural production. No effect to socioeconomic conditions is anticipated to result from use of targeted enrollment; however, general social benefits from conservation would be realized. Overall, it is expected that using targeted enrollment could increase the quality of lands enrolled in CRP, resulting in greater environmental benefits. Targeted enrollment could provide long-term benefits to areas of sensitive vegetative communities, wildlife habitat, or water quality. Such benefits could occur throughout the U.S. in any ecoregion where targeting occurred.

Installation and maintenance of CPs could create temporary, short-term negative impacts while the work was ongoing to resources, including vegetation, wildlife, protected species, soils, surface and groundwater, floodplains, wetlands, and air quality. However, all activities would be specified in Conservation Plans, designed by NRCS, which reflect local conditions and needs for each tract of land enrolled. Once CPs are established, long-term beneficial impacts to resources would be realized.

Managed Harvesting and Routine Grazing Frequencies

Managed harvesting would be allowed to occur no more frequently than once every 3 years, but not less frequently than once in 5 years. This would require four states (California, Colorado, Arizona, and Nevada) that currently allow managed harvesting once every 10 years to have more frequent managed harvesting on new contracts where managed harvesting would be used to maintain CRP. The 2014 Farm Bill allows for the State Technical Committees (STCs) to establish routine grazing frequencies of not more than once every 2 years. More frequent harvesting and grazing could reduce the growing period between harvests, which may cause short-term negative impacts to some types of vegetation, potentially affecting wildlife habitat, soil stability, and any adjacent wetlands, floodplains, or surface waters. Activities with direct impacts would vary by ecoregion and species composition. Long-term benefits of harvesting and grazing include maintaining early succession stages, and improving species diversity, composition, and function. Wildlife adapted to early successional habitats could benefit from more frequent harvesting and grazing. Grazing could negatively affect wildlife through displacement or competition for food resources. Both grazing and haying could result in direct mortality to some wildlife species. Protected species are not expected to be affected as site specific Environmental Evaluations on Conservation Plans would determine the presence of protected species and ensure no impacts occur. No effects to groundwater, air quality, recreation, or socioeconomic resources are anticipated. When performed in accordance with established guidelines, managed harvesting can be an effective tool for maintaining early successional stages of vegetative communities.

Emergency Haying and Grazing on Additional CP

Consecutive years of emergency haying or grazing on the same acreage would reduce the growth period and could result in long-term negative impacts to some types of vegetation, in turn affecting wildlife. Impacts to wildlife could also include direct mortality and competition for food resources. No impacts to protected species are expected due to use of site-specific Environmental Evaluations. As with managed harvesting and routine grazing, short-term impacts to soils could occur from reduced vegetation growth affecting the stability of soils. Short-term impacts to surface waters, floodplains, and wetlands could occur from increased runoff, however, adherence to site-specific NRCS Conservation Plans and oversight by STC would reduce the potential for long-term impacts to these resources. No impacts to groundwater are anticipated. In the short-term, consecutive years of emergency haying and grazing could reduce the carbon sequestration potential of CRP vegetation. Socioeconomic benefits would result from enabling producers to maintain herds during severe droughts.

Rationale for Decision

No significant impacts would occur from implementation of the Proposed Action and no significant adverse cumulative impacts are expected. Potential negative impacts will be minimized by employment of best management practices specified in Conservation Plans and through the use of site-specific Environmental Evaluations.

Val Dolcini,
Administrator, Farm Service Agency, and Executive Vice President, Commodity Credit Corporation.

[FR Doc. 2015-14988 Filed 6-17-15; 8:45 am]

BILLING CODE 3410-05-P